NATIONAL AERONAUTICS AND SPACE ADMINISTRATION

[Notice: (17-085)]

NASA Heliophysics Advisory Committee Meeting

AGENCY: National Aeronautics and Space Administration.

ACTION: Notice of meeting.

SUMMARY: In accordance with the Federal Advisory Committee Act, the National Aeronautics and Space Administration (NASA) announces a meeting of the Heliophysics Advisory Committee. This Committee reports to the Director, Heliophysics Division, Science Mission Directorate, NASA Headquarters. The meeting will be held for the purpose of soliciting, from the scientific community and other persons, scientific and technical information relevant to program planning.

DATES: Wednesday, November 29, 2017, 1:30 p.m.-5:30 p.m.; Thursday, November 30, 2017, 9:00 a.m.-5:00 p.m.; and December 1, 2017, 9:00 a.m.-3:45 p.m., Local Time.

ADDRESSES: NASA Headquarters, 300 E Street SW., Washington, DC 20546. Room number on November 29 will be Room 5H41; on November 30, Room 7H41-A; and on December 1, Room 5H41-A.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. This meeting will also be available telephonically and by WebEx. You must use a touch-tone phone to participate in this meeting. Any interested person may dial the USA toll free conference call number 1-888-603-8921 or toll number 1-312-470-7052, passcode 9896208, to participate in this meeting by telephone for all three days. The WebEx link is https://nasa.webex.com/; on November 29 the meeting number is 999 227 289 and the password is HPAC2017!, and on November 30 and December 1 the meeting number is 995 903 023 and the password is HPAC2017@.

The agenda for the meeting includes the following topics:

• Heliophysics Division Update

• Government Performance and Results Modernization Act (GPRAMA) Discussion and Recommendations

• Senior Review of Operating Missions Outbrief

• Heliophysics Research and Analysis Program

• Heliophysics Science Centers Program

• Discussion of NASA High End Computing (HEC) and Future High-Performance Computing Resources for the Heliophysics Community

The agenda will be posted on the Heliophysics Advisory Committee Web page: https://science.nasa.gov/researchers/nac/science-advisory-committees/hpac.

It is imperative that the meeting be held on this date to accommodate the scheduling priorities of the key participants.

Patricia D. Rausch,
Advisory Committee Management Officer, National Aeronautics and Space Administration.

[FR Doc. 2017-25042 Filed 11-17-17; 8:45 am]

BILLING CODE 7510-13-P